ENVIRONMENTAL PROTECTION AGENCY

[OPPT-2004-0093; FRL-7358-8]

National Advisory Committee for Acute Exposure Guideline Levels for Hazardous Substances; Notice of Public Meeting

AGENCY: Environmental Protection Agency (EPA).

ACTION: Notice.

SUMMARY: A meeting of the National Advisory Committee for Acute Exposure Guideline Levels for Hazardous Substances (NAC/AEGL Committee) will be held on June 14-16, 2004, in The Netherlands. At this meeting, the NAC/AEGL Committee will address, as time permits, the various aspects of the acute toxicity and the development of Acute Exposure Guideline Levels (AEGLs) for the following chemicals: Acetone; acrolein; adamsite; carbon disulfide; chloroacetone; chloroform; 1,4-dioxane; diphenylchloroarsine; epichlorohydrin; ethyl dichloroarsine; hexane; Lewisite 1: (2-chlorovinyl) dichloroarsine; Lewisite 2: bis(2-chlorovinyl)chloroarsine; Lewisite 3: tris(2-chlorovinyl)arsine; methyl dichloroarsine; methylene chloride; methyl mercaptan; N,N-dimethylformamide; nitric acid; nitric oxide; nitrogen dioxide; oleum; peracetic acid; phenyl dichloroarsine; sulfur dioxide; sulfur trioxide; sulfuric acid; trichloroethylene; and trimethylchlorosilane.

DATES: A meeting of the NAC/AEGL Committee will be held from 9 a.m. to 5:30 p.m. on June 14, 2004; 8:30 a.m. to 5:30 p.m. on June 15, 2004, and from 8 a.m. to noon on June 16, 2004.

ADDRESSES: The meeting will be held at the Movenpick Hotel Voorburg, The Netherlands (located in the outskirts of The Hague), Stationsplein 8, NL-2275 AZ Voorburg (Den Haag). Telephone: + 31 70 337 37 37; Fax +31 70 337 37 00; E-mail: hotel.den-haag@moevenpick.com; Internet: www.movenpick-voorburg.com.

FOR FURTHER INFORMATION CONTACT: Colby Linter, Regulatory Coordinator, Environmental Assistance Division (7408), Office of Pollution Prevention and Toxics, Environmental Protection Agency, 1200 Pennsylvania Ave., NW., Washington, DC 20460-0001; telephone number (202) 554-1404; e-mail address: TSCA-hotline@epa.gov.

For technical information contact: Paul S. Tobin, Designated Federal Officer (DFO), Economics, Exposure, and Technology Division (7406M), Office of Pollution Prevention and Toxics, 1200 Pennsylvania Ave., NW., Washington, DC 20460-0001; telephone number: (202) 564-8557; e-mail address: tobin.paul@epa.gov.

SUPPLEMENTARY INFORMATION:

I. General Information

A. Does this Action Apply to Me?

This action is directed to the public in general. This action may be of particular interest to anyone who may be affected if the AEGL values are adopted by government agencies for emergency planning, prevention, or response programs, such as EPA's Risk Management Program under the Clean Air Act and Amendments Section 112r. It is possible that other Federal agencies besides EPA, as well as State agencies and private organizations, may adopt the AEGL values for their programs. As such, the Agency has not attempted to describe all the specific entities that may be affected by this action. If you have any questions regarding the applicability of this action to a particular entity, consult the DFO listed under FOR FURTHER INFORMATION CONTACT.

B. How Can I Get Copies of this Document and Other Related Information?

1. Docket. EPA has established an official public docket for this action under docket ID number OPPT-2004-0093. The official public docket consists of the documents specifically referenced in this action, any public comments received, and other information related to this action. Although, a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although, not all docket materials may be available electronically, you may still access any of the publicly available docket materials through the docket facility identified in Unit I.B.1. Once in the system, select “search,” then key in the appropriate docket ID number.

II. Meeting Procedures

For additional information on the scheduled meeting, the agenda of the NAC/AEGL Committee, or the submission of information on chemicals to be discussed at the meeting, contact the DFO listed under FOR FURTHER INFORMATION CONTACT.

The meeting of the NAC/AEGL Committee will be open to the public. Oral presentations or statements by interested parties will be limited to 10 minutes. Interested parties are encouraged to contact the DFO to schedule presentations before the NAC/AEGL Committee. Since seating for outside observers may be limited, those wishing to attend the meeting as observers are also encouraged to contact the DFO at the earliest possible date to ensure adequate seating arrangements. Inquiries regarding oral presentations and the submission of written statements or chemical-specific information should be directed to the DFO.

III. Future Meetings

Another meeting of the NAC/AEGL Committee is scheduled for September 21-23, 2004, in Washington, DC.

List of Subjects

Environmental protection, Chemicals, Hazardous substances, Health.

Dated: May 17, 2004.
Charles M. Auer,
Director, Office of Pollution Prevention and Toxics.

[FR Doc. 04-11671 Filed 5-25-04; 8:45 am]

BILLING CODE 6560-50-S